FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012211.

Title: COSCON/Zim Slot Charter Agreement.

Parties: COSCO Container Lines Co, Ltd. and Zim Integrated Shipping Services, Ltd.

Filing Party: Wayne R. Rohde, Esq.; Cozen O'Connor; 1627 I Street NW., Suite 1100; Washington, DC 20006.

Synopsis: The agreement authorizes the parties to exchange slots in the trades between Israel and the U.S. East Coast, and China and the U.S. West Coast.

Agreement No.: 201206-001.

Title: Port of Philadelphia Marine Terminal Association, Inc.

Parties: Delaware River Stevedores, Inc. and South Jersey Port Corporation.

Filing Party: Eugene Mattioni; Suite 200-399 Market Street; Philadelphia, PA 19106.

Synopsis: The Amendment deletes a party, provides for arbitration in case of disputes, and names a new Executive Secretary.

By Order of the Federal Maritime Commission.
Dated: June 14, 2013.
Karen V. Gregory,
Secretary.

[FR Doc. 2013-14664 Filed 6-18-13; 8:45 am]

BILLING CODE 6730-01-P